SECURITIES AND EXCHANGE COMMISSION

[File No. 500-1]

In the Matter of Biopulse International, Inc., n/k/a Only You, Inc., and Summit National Consolidation Group, Inc., n/k/a Superwipes, Inc.; Order of Suspension of Trading

It appears to the Securities and Exchange Commission that there is a lack of current and accurate information concerning the securities of Biopulse International, Inc. (n/k/a Only You, Inc.) because it has not filed a periodic report since the period ending April 30, 2002.

It appears to the Securities and Exchange Commission that there is a lack of current and accurate information concerning the securities of Summit National Consolidation Group, Inc. (n/k/a/ Superwipes, Inc.) because it has not filed a periodic report since the period ending December 31, 2000.

The Commission is of the opinion that the public interest and the protection of investors require a suspension of trading in the securities of the above-listed companies.

Therefore, it is ordered, pursuant to Section 12(k) of the Securities Exchange Act of 1934, that trading in the above-listed companies is suspended for the period from 9:30 a.m. EST on March 10, 2006, through 11:59 p.m. EST on March 23, 2006.

By the Commission.
Jill M. Peterson,
Assistant Secretary.

[FR Doc. 06-2475 Filed 3-10-06; 12:07 pm]

BILLING CODE 8010-01-P